DEPARTMENT OF COMMERCE

National Oceanic and Atmospheric Administration

[I.D. 091106A]

Atlantic Trawl Gear Take Reduction Team Meeting

AGENCY: National Marine Fisheries Service (NMFS), National Oceanic and Atmospheric Administration (NOAA), Commerce.

ACTION: Notice of establishment of an Atlantic Trawl Gear Take Reduction Team and meeting.

SUMMARY: NMFS is establishing a Take Reduction Team (TRT) to address incidental mortality and serious injury of long-finned pilot whales (Globicephala melas), short-finned pilot whales (Globicephala macrorhynchus), white-sided dolphins (Lagenorhynchus acutus), and common dolphins (Delphinus delphis) in several trawl gear fisheries in the Atlantic Ocean. The TRT will develop a Take Reduction Plan (TRP) as required by section 118 of the Marine Mammal Protection Act (MMPA). NMFS will seek input from the Atlantic Trawl Gear TRT on all scientific data related to stock structure, abundance, and human-caused mortality and serious injury of pilot whales, white-sided dolphins, and common dolphins. The TRT will focus on developing a plan to reduce incidental catch of these species in Atlantic trawl gear fisheries to a level less than the Potential Biological Removal (PBR) level within 6 months of implementation of the plan and to a level approaching a zero mortality and serious injury rate within 5 years of implementation of the plan.

DATES: The meeting will be held on September 19, 2006, from 10 a.m. to 5 p.m., on September 20-21, 2006, from 8:30 a.m. to 5 p.m., and on September 22, 2006, from 8:30 a.m. to 2 p.m. in Providence, RI.

ADDRESSES: The Atlantic Trawl Gear TRT meeting will be held at the Providence Courtyard Marriott Downtown, 32 Exchange Terrace, Providence, RI 02903. Phone: (401) 272-1191, Fax: (401) 272-1416.

FOR FURTHER INFORMATION CONTACT: Mark Minton, NMFS, Northeast Region, 978-281-9300 Ext. 6534, Mark.Minton@noaa.gov or Melissa Andersen, NMFS, Office of Protected Resources, 301-713-2322 Ext. 173, Melissa.Andersen@noaa.gov.

SUPPLEMENTARY INFORMATION: The MMPA defines the Potential Biological Removal (PBR) level of a marine mammal stock as the maximum number of animals, not including natural mortalities, that may be removed from a marine mammal stock while allowing that stock to reach or maintain its optimum sustainable population. The PBR level is the product of the following factors: the minimum population estimate of the stock; one-half the maximum theoretical or estimated net productivity rate of the stock at a small population size; and a recovery factor of between 0.1 and 1.0.

The Western North Atlantic stocks of long-finned and short-finned pilot whales (Globicephala sp.) were designated as non-strategic in the 2005 marine mammal stock assessment report (Waring et al., 2006) because fishery-related serious injuries and mortalities are less than PBR. The 2005 stock assessment report indicates that the PBR for the combined stock of long-finned and short-finned pilot whales (Globicephala sp.) is 239, and that total fishery-related mortality and serious injury is 210. The Western North Atlantic (WNA) stock of white-sided dolphin (Lagenorhynchus acutus) is designated as non-strategic in the 2005 marine mammal stock assessment report (Waring et al., 2006) because fishery-related serious injuries and mortalities are less than PBR. The 2005 stock assessment report indicates that the PBR for the WNA stock of white-sided dolphins is 364 and that total fishery-related mortality and serious injury is 38.

The Western North Atlantic stock of common dolphin (Delphinus delphis) is designated as non-strategic in the 2005 marine mammal stock assessment report (Waring et al., 2006) because fishery-related serious injuries and mortalities are less than PBR. The 2005 stock assessment report indicates that the PBR for the WNA stock of common dolphin is 960 and that total fishery-related mortality and serious injury is 119.

For non-strategic stocks, section 118 of the MMPA calls for a take reduction plan to be completed within 11 months of the establishment of the team, and to focus in this case, on reducing incidental mortalities and serious injuries of pilot whales, white-sided dolphins and common dolphins to a level approaching a zero mortality and serious injury rate within 5 years of implementation of the plan.

All three species of marine mammals are known to interact with the Mid-Atlantic Mid-water Trawl fishery, which is classified on the MMPA List of Fisheries (LOF) as a Category I fishery (i.e., one that has frequent incidental mortalities or serious injuries of marine mammals). All three species of marine mammals are also known to interact with the Mid-Atlantic Bottom Trawl, Northeast Mid-water Trawl, and the Northeast Bottom Trawl fisheries, which are classified as Category II fisheries (i.e., those that have annual mortality and serious injury greater than 1 percent and less than 50 percent of the PBR level) on the MMPA LOF.

Other commercial fisheries known to occasionally cause incidental mortality and serious injury of pilot whales, white-sided dolphins, and common dolphins include the pelagic longline fishery (excluding the Northeast distant water fishery) and the Northeast Multispecies Sink Gillnet fishery.

Section 118 (f)(8) of the MMPA calls on the TRT to develop a draft TRP by consensus, and to submit this draft TRP to NMFS not later than 11 months after the date of the establishment of the TRT. The Secretary is then to consider the TRP, and no later than 60 days after the submission of the draft TRP, NMFS is to publish in the Federal Register the TRP and any implementing regulations proposed by the team for a public comment period not to exceed 90 days. Within 60 days of the close of the comment period, NMFS is to issue a final TRP and any implementing regulations.

List of invited participants: MMPA section 118 (f)(6)(c) requires that members of TRTs have expertise regarding the conservation or biology of the marine mammal species that the TRP will address, or the fishing practices that result in the incidental mortality or serious injury of such species. Section 118 requires that TRTs, to the maximum extent practicable, consist of an equitable balance among representatives of resource user and non-user interests.

NMFS has asked the following individuals to serve as members on this TRT:

Melissa Andersen, NMFS; David Beutel, University of Rhode Island; William Bright, Fishing Vessel Retriever; Brendan Cummings, Center for Biological Diversity; Glenn Delaney, Northeast Seafood Coalition; Gregory DiDomenico, Garden State Seafood Association; Pat Fiorelli, Northeast Fishery Management Council; Damon Gannon, Mote Marine Laboratory; Mike Genovese, Fishing Vessel White Dove; Glen Goodwin, Fishing Vessel Relentless; Elizabeth Griffin, Oceana; Nick Jenkins, Fishing Vessels Isabelle Taylor and Jean McCausland; Jessica Koelsch, The Ocean Conservancy; Robert Lane, Fishing Vessels Isabel S. and Melissa Jayne; Stephen Lee, Fishing Vessel Kristen Lee; Jim Lovgren, Fishing Vessel Sea Dragon; Rick Marks, Garden State Seafood Association; William McLellan, University of North Carolina, Wilmington; Mark Minton, NMFS; Peter Moore, American Pelagic Association; Gerry O'Neill, Fishing Vessel, Voyager, Challenger, Endeavor; Ryan Rabar, Fishing Vessel Providian; Eoin Rochefort, Northern Pelagic Group, LLC (NORPEL); Jim Ruhle, Fishing Vessel Darana R; Rich Seagraves, Mid-Atlantic Fishery Management Council; Michael Simpkins, Marine Mammal Commission; and Sharon Young, Human Society of the United States.

Other individuals from NMFS and state and Federal agencies may be present as observers or for their scientific expertise. Members of TRTs serve without compensation, but may be reimbursed by NMFS, upon request, for reasonable travel costs and expenses incurred in preforming their duties as members of the team. The TRT process will be facilitated by Robin Roberts and Dana Mason, RESOLVE, Washington, D.C. The ATGTRT will hold its first meeting from September 19-22, 2006, in Providence, RI (see DATES and ADDRESSES).

NMFS intends to conduct the TRT process in a way that provides for national consistency yet accommodates the unique regional characteristics of the fishery and marine mammal stocks involved. Take Reduction Teams are not subject to the Federal Advisory Committee Act (5 App. U.S.C.). Meetings are open to the public.

Dated: September 11, 2006.
James H. Lecky,
Director, Office of Protected Resources, National Marine Fisheries Service.

[FR Doc. E6-15265 Filed 9-13-06; 8:45 am]

BILLING CODE 3510-22-S